Title 3—

The President

Notice of April 18, 2023

Continuation of the National Emergency and of the Emergency Authority Relating to the Regulation of the Anchorage and Movement of Russian-Affiliated Vessels to United States Ports

On April 21, 2022, by Proclamation 10371, I declared a national emergency by reason of a disturbance or threatened disturbance of international relations of the United States and authorized the Secretary of Homeland Security to regulate the anchorage and movement of Russian-affiliated vessels, pursuant to the National Emergencies Act (50 U.S.C. 1601 et seq.) and section 1 of title II of Public Law 65-24, ch. 30, June 15, 1917, as amended (Magnuson Act) (46 U.S.C. 70051).

The policies and actions of the Government of the Russian Federation to continue the premeditated, unjustified, unprovoked, and brutal war against Ukraine continue to constitute a national emergency by reason of a disturbance or threatened disturbance of international relations of the United States. Therefore, in accordance with section 202(d) of the National Emergencies Act (50 U.S.C. 1622(d)), I am continuing for 1 year the national emergency with respect to the Russian Federation and the emergency authority relating to the regulation of the anchorage and movement of Russian-affiliated vessels to United States ports set out in Proclamation 10371.

This notice shall be published in the Federal Register and transmitted to the Congress.

THE WHITE HOUSE,

April 18, 2023.

[FR Doc. 2023-08501

Filed 4-19-23; 8:45 am]

Billing code 3395-F3-P